NUCLEAR REGULATORY COMMISSION

[Docket Nos. 50-369 and 50-370]

Duke Energy Corporation, McGuire Nuclear Station, Units 1 and 2; Biweekly Notice; Applications and Amendments to Facility Operating Licenses Involving No Significant Hazards Considerations; Correction

AGENCY: Nuclear Regulatory Commission.

ACTION: Notice of Issuance; Correction.

SUMMARY: This document corrects a notice appearing in the Federal Register on July 22, 2003, (68 FR 43399), that incorrectly referenced the McGuire, Unit 2, amendment number. This action is necessary to correct an erroneous amendment number.

FOR FURTHER INFORMATION CONTACT: Robert Martin, Office of Nuclear Reactor Regulation, U.S. Nuclear Regulatory Commission, Washington, DC 20555-0001; telephone (301) 415-1493, e-mail: REM@NRC.GOV.

SUPPLEMENTARY INFORMATION: On page 43399, in the second column, in the sixth complete paragraph, it is corrected to read from “[Amendment Nos.: 215 & 195]” to “[Amendment Nos.: 215 & 196]”.

Dated in Rockville, Maryland, this 29th day of July, 2003.
For the Nuclear Regulatory Commission.
Ledyard B. Marsh,
Director, Division of Licensing Project Management, Office of Nuclear Reactor Regulation.

[FR Doc. 03-20148 Filed 8-6-03; 8:45 am]

BILLING CODE 7950-01-P